DEPARTMENT OF THE INTERIOR

National Park Service

Notice of Availability of Draft National Park Service (NPS) Management Policies Applicable to Commercial Visitor Services

AGENCY: National Park Service, Interior.

ACTION: Notice of availability.

SUMMARY: The National Park Service (NPS) is updating its policies that guide the management of the national park system. The update is necessary to keep pace with changes in laws, regulations, socio-economic factors and technology, as well as new understandings of the natural and cultural resources that the NPS is responsible for protecting within the national parks. A proposed revision of chapter 10, on the subject of commercial visitor services, is now available for review and comment.

DATES: The NPS must receive comments on or before September 18, 2000.

ADDRESSES: The draft chapter 10 is available on the Internet at http://www.nps.gov/refdesk/ policies.html. Requests for paper copies, and written comments, should be sent to: NPS Office of Policy, Room 2414, Main Interior Building, Washington, D.C. 20240. Draft copies may also be obtained by calling (202) 208-7456, and comments may be telefaxed to (202) 219-8835.

FOR FURTHER INFORMATION CONTACT: Mr. Chick Fagan at (202) 208-7456.

SUPPLEMENTARY INFORMATION: NPS policies are published in a 10-chapter volume titled “Management Policies.” A Notice of Availability inviting public comment on draft revisions to the 1988 edition of “Management Policies” was published January 19, 2000 [65 FR 2984]. The comment period closed March 20, 2000. Chapter 10, which addresses commercial visitor services, was not ready for distribution during that review period because regulations implementing the 1998 Concessions Management Improvement Act had not yet been finalized. The NPS is now proposing to adopt a draft of chapter 10 that comports fully with the underlying legislative and regulatory basis for commercial visitor services in the national park system.

Individual respondents may request that we withhold their home address from the administrative record, which we will honor to the extent allowable by law. There also may be circumstances in which we would withhold from the record a respondent's identity, as allowable by law. If you wish us to withhold your name and/or address, you must state this prominently at the beginning of your comment.

Dated: August 10, 2000.
Loran Fraser,
Chief, Office of Policy.

[FR Doc. 00-20794 Filed 8-15-00; 8:45 am]

BILLING CODE 4310-70-P